DEPARTMENT OF TRANSPORTATION

Federal Aviation Administration

Notice of Availability of the Final Environmental Assessment (EA) and Finding of No Significant Impact/Record of Decision (FONSI/ROD) for the Obstruction Removal Project for the Duluth-Sky Harbor Airport (DYT) in Duluth, MN

AGENCY: Federal Aviation Administration (FAA), DOT.

ACTION: Notice.

SUMMARY: The FAA is issuing this notice to advise the public that the FAA has prepared and approved (May 8, 2015) a FONSI/ROD based on the Final EA for the DYT Obstruction Removal Project. The Final EA was prepared in accordance with the National Environmental Policy Act (NEPA) of 1969, as amended, FAA Orders 1050.1E, “Environmental Impacts: Policies and Procedures” and 5050.4B, “NEPA Implementing Instructions for Airport Actions”.

DATES: This notice is effective June 22, 2015.

FOR FURTHER INFORMATION CONTACT: Mr. Josh Fitzpatrick, Environmental Protection Specialist, FAA Dakota-Minnesota Airports District Office (ADO), 6020 28th Avenue South, Suite 102, Minneapolis, Minnesota, 55450. Telephone number is (612) 253-4639. Copies of the FONSI/ROD and/or Final EA are available upon written request by contacting Mr. Josh Fitzpatrick through the contact information above.

SUPPLEMENTARY INFORMATION: The Final EA evaluated the DYT Obstruction Removal Project. The purpose of the project is to provide a safe airport facility that will meet FAA and MnDOT aeronautics design and operation requirements and safely maintain adequate runways with clear approach surfaces for local, regional, and interregional aviation users.

The FAA and the Duluth Airport Authority (DAA) jointly prepared the Final EA, pursuant to the requirements of the NEPA and the Minnesota Environmental Policy Act, respectively. A joint Federal-State EA was prepared.

Chapter 2 of the Final EA identified and evaluated all reasonable alternatives. Numerous alternatives were considered but eventually discarded for not meeting the purpose and need. Three alternatives (No Action, Alternative 5a Short, and Alternative 13) were examined in detail. After careful analysis and consultation with various resource agencies, the DAA selected Alternative 5a Short as the preferred alternative. Alternative 5a Short satisfies the purpose and need while minimizing impacts.

Alternative 5a Short includes the construction of a rotated and shortened runway. Compared to the existing runway, the new runway would be shortened by 450 feet and rotated five degrees (Runway 32 end) into Superior Bay. The primary surface would be graded and the parallel taxiway reconstructed at a separation of 150 feet. The existing Medium Intensity Runway Lights (MIRLs), Runway End Identifier Lights (REILs), Precision Approach Path Indicators (PAPIs) and Medium Intensity Taxiway Lights (MITLs) would be relocated or replaced. Existing pavements would be removed and previously paved areas would be restored with native vegetation.

Alternative 5a Short includes placing approximately 69,800 cubic yards of soil for runway construction (combined in water and on land), 50,000 cubic yards of surcharge (fill to be placed in order to compact soft soils, and then removed) and 25,000 tons of riprap over a total project area of 29.47 acres. The project will not impact the Scientific Natural Area.

Based on the analysis in the Final EA, the FAA has determined that Alternative 5a Short will not result in significant impacts to resources identified in accordance with FAA Orders 1050.1E and 5054.4B. Therefore, an environmental impact statement will not be prepared.

Issued in Minneapolis, Minnesota, on May 8, 2015.
Christopher Hugunin,
Manager, Dakota-Minnesota Airports District Office, FAA, Great Lakes Region.

[FR Doc. 2015-15273 Filed 6-19-15; 8:45 am]

BILLING CODE 4910-13-P